FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (www.fmc.gov) or by contacting the Office of Agreements at (202) 523-5793 or tradeanalysis@fmc.gov.

Agreement No.: 012084-001.

Title: HLAG/Maersk Line Gulf-South America Slot Charter Agreement.

Parties: A.P. Moller-Maersk A/S and Hapag-Lloyd AG.

Filing Party: Wayne R. Rohde, Esq.; Cozen O'Connor; 1627 I Street NW., Suite 1100; Washington, DC 20006-4007.

Synopsis: The amendment would increase the amount of space to be chartered, provide for a new initial term of the agreement, and restates the agreement to correct a pagination error. The parties have requested expedited review.

By Order of the Federal Maritime Commission.
Dated: August 17, 2012.
Karen V. Gregory,
Secretary.

[FR Doc. 2012-20652 Filed 8-21-12; 8:45 am]

BILLING CODE 6730-01-P